DEPARTMENT OF ENERGY

Federal Energy Regulatory Commission

[Docket Nos. CP05-130-001, CP05-130-002, CP05-132-001, and CP05-131-001]

Dominion Cove Point LNG, LP; Dominion Transmission, Inc.; Notice of Supplemental Filings

June 3, 2005.

Take notice that on May 27, 2005, Dominion Cove Point LNG, LP (Cove Point LNG) filed new information to supplement its application in Docket No. CP05-130-000. That application, filed pursuant to section 3 of the Natural Gas Act (NGA), requests authority to expand its facilities at its liquefied natural gas (LNG) import terminal at Cove Point, Maryland. The new information is also relevant to Cove Point LNG's April 15, 2005, application in Docket No. CP05-132-000 and Dominion Transmission, Inc.'s April 15, 2005 application in Docket No. CP05-131-000.

The details of these filings are more fully set forth in the filings which are on file with the Commission and open to public inspection. These filings may also be viewed on the Web at http://www.ferc.gov using the “eLibrary” link. Enter the docket number including the last three digits in the docket number field to access the document. For assistance, please contact FERC Online Support at FERCOnlineSupport@ferc.gov or toll free at (866) 208-3676, or TTY, contact (202) 502-8659.

The first item of new information filed in Docket Nos. CP05-130-001, CP05-132-001 and CP05-131-001 is a Notice of Terms of Settlement of Matters Related to the Cove Point Expansion Proceedings. This Notice describes the principal terms of a settlement among Cove Point LNG and certain parties to these proceedings. Among other things, the Notice briefly describes certain additional filings that Cove Point LNG will now make regarding its LNG import terminal. The second item of new information filed in Docket No. CP05-130-002 is one of these additional filings. This second item is revisions to Cove Point LNG's proposed Section 30 of its General Terms and Conditions of its FERC Gas Tariff. Proposed Section 30, as now revised, more fully describes the relationship of certain aspects of Cove Point's proposed expansion service to other provisions of its FERC tariff.

Pursuant to the Commission's Notice of Application issued on April 29, 2005, May 27, 2005 was to have been the due date for filing of comments, protests and motions to intervene in these proceedings. We note that consolidated responses to any comments, protests and motions to intervene filed on May 27, 2005 remains due no later than June 13, 2005, pursuant to a Notice of Extension of Time issued by the Commission on May 27, 2005.

However, given the nature of the new information filed on May 27, 2005 by Cove Point LNG in the above referenced sub-dockets, the Commission hereby sets a further date for all parties and persons to revise or initially file their comments, protests and motions to intervene in these proceedings.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (http://www.ferc.gov) under the “e-Filing” link.

Further Comment Date: June 28, 2005.

Linda Mitry,
Deputy Secretary.

[FR Doc. E5-2958 Filed 6-8-05; 8:45 am]

BILLING CODE 6717-01-P